DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of these meetings be announced in the Federal Register.

DATES: Thursday, November 6, 2003; 9 a.m.-5 p.m., Friday, November 7, 2003; 8:30 a.m.-4 p.m.

ADDRESSES: Doubletree Hotel Columbia River, 1401 North Hayden Island Drive, Portland, OR; Phone: (503) 283-2111, Fax: (503) 283-4718.

FOR FURTHER INFORMATION CONTACT: Yvonne Sherman, Public Involvement Program Manager, Department of Energy Richland Operations Office, 825 Jadwin, MSIN A7-75, Richland, WA 99352; Phone: (509) 376-6216; Fax: (509) 376-1563.

SUPPLEMENTARY INFORMATION: Purpose of the Board: The purpose of the Board is to make recommendations to DOE and its regulators in the areas of environmental restoration, waste management, and related activities.

Tentative Agenda:

Thursday, November 6, 2003

• Tank Waste Supplemental Technologies Workshop and Draft Advice

• DOE-Richland Operation Office Risk-Based End State Vision Discussion and Draft Advice

• Discussion of DOE Office of River Protection Baseline and DOE-Richland Operation Baseline (Fluor Hanford Work Scope)

• Briefing and Discussion of the Spent Fuel Project

Friday, November 7, 2003

• Update on the Draft Tank Waste Closure Environmental Impact Statement

• Technology Progress: Carbon Tetrachloride, N-Springs, 618-10/11 Waste Sites

• Adoption of Draft Advice:—Tank Waste Supplemental Technologies—Risk-Based End State Vision

• Committee Updates

• Identification of Topics for the February Board Meeting

Public Participation: The meeting is open to the public. Written statements may be filed with the Board either before or after the meeting. Individuals who wish to make oral statements pertaining to agenda items should contact Yvonne Sherman's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585, between 9 a.m. and 4 p.m., Monday-Friday, except Federal holidays. Minutes will also be available by writing to Yvonne Sherman, Department of Energy Richland Operation Office, 825 Jadwin, MSIN A7-75, Richland, WA 99352, or by calling her at (509) 376-1563.

Issued at Washington, DC, on September 26, 2003.
Rachel M. Samuel,
Deputy Advisory Committee Management Officer.

[FR Doc. 03-24870 Filed 9-30-03; 8:45 am]

BILLING CODE 6450-01-P